DEPARTMENT OF ENERGY

Federal Energy Regulatory Commission

[Docket No. PF25-10-000]

Corpus Christi Liquefaction Stage IV, LLC, Corpus Christi Liquefaction, LLC, Cheniere Corpus Christi Pipeline, L.P.; Notice of Scoping Period Requesting Comments on Environmental Issues for the Planned CCL Stage 4 Project and CCPL Expansion Project, and Notice of Public Scoping Session

The staff of the Federal Energy Regulatory Commission (FERC or Commission) will prepare an environmental document that will discuss the environmental impacts of the planned CCL Stage 4 Project and CCPL Expansion Project (projects) involving construction and operation of facilities by Corpus Christi Liquefaction Stage IV, LLC, Corpus Christi Liquefaction, LLC, and Cheniere Corpus Christi Pipeline, L.P. (collectively, the Applicants) in San Patricio and Nueces Counties, Texas. The Commission will use this environmental document in its decision-making process to determine whether the projects are in the public interest.

This notice announces the opening of the scoping process the Commission will use to gather input from the public and interested agencies regarding the projects. As part of the National Environmental Policy Act (NEPA) review process, the Commission takes into account concerns the public may have about proposals and the environmental impacts that could result from its action whenever it considers the issuance of an authorization. This gathering of public input is referred to as “scoping.” The main goal of the scoping process is to focus the analysis in the environmental document on the important environmental issues. Additional information about the Commission's NEPA process is described below in the NEPA Process and Environmental Document section of this notice.

By this notice, the Commission requests public comments on the scope of issues to address in the environmental document. To ensure that your comments are timely and properly recorded, please submit your comments so that the Commission receives them in Washington, DC on or before 5:00 p.m. Eastern Time on December 24, 2025. Comments may be submitted in written or oral form. Further details on how to submit comments are provided in the Public Participation section of this notice.

Your comments should focus on the potential environmental effects, reasonable alternatives, and measures to avoid or lessen environmental impacts. Your input will help the Commission staff determine what issues they need to evaluate in the environmental document. Commission staff will consider all written or oral comments during the preparation of the environmental document.

If you submitted comments on these projects to the Commission before the opening of this docket on July 17, 2025, you will need to file those comments in Docket No. PF25-10-000 to ensure they are considered.

This notice is being sent to the Commission's current environmental mailing list for this project. State and local government representatives should notify their constituents of these planned projects and encourage them to comment on their areas of concern.

If you are a landowner receiving this notice, a pipeline company representative may contact you about the acquisition of an easement to construct, operate, and maintain the planned facilities. The company would seek to negotiate a mutually acceptable easement agreement. You are not required to enter into an agreement. However, if the Commission approves the projects, the Natural Gas Act conveys the right of eminent domain to the company. Therefore, if you and the company do not reach an easement agreement, the pipeline company could initiate condemnation proceedings in court. In such instances, compensation would be determined by a judge in accordance with state law. The Commission does not subsequently grant, exercise, or oversee the exercise of that eminent domain authority. The courts have exclusive authority to handle eminent domain cases; the Commission has no jurisdiction over these matters.

A fact sheet prepared by the FERC entitled “An Interstate Natural Gas Facility On My Land? What Do I Need To Know?” addresses typically asked questions, including the use of eminent domain and how to participate in the Commission's proceedings. This fact sheet along with other landowner topics of interest are available for viewing on the FERC website (www.ferc.gov) under the Natural Gas, Landowner Topics link.

Public Participation

There are four methods you can use to submit your comments to the Commission. Please carefully follow these instructions so that your comments are properly recorded. The Commission encourages electronic filing of comments and has staff available to assist you at (866) 208-3676 or FercOnlineSupport@ferc.gov.

(1) You can file your comments electronically using the eComment feature, which is located on the Commission's website (www.ferc.gov) under the link to FERC Online. Using eComment is an easy method for submitting brief, text-only comments on a project;

(2) You can file your comments electronically by using the eFiling feature, which is located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the project docket number (PF25-10-000) on your letter. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852.

(4) In lieu of sending written comments, the Commission invites you to attend a public scoping session its staff will conduct in the project area, scheduled as follows:

Date and time | Location
Wednesday, December 10, 2025, 5:00-8:00 p.m. CST | Portland Community Center, 2000 Billy G. Webb Drive, Portland, TX 78374, 361-777-4670.

The primary goal of the scoping session is to have you identify the specific environmental issues and concerns that should be considered in the environmental document. Individual oral comments will be taken on a one-on-one basis with a court reporter. This format is designed to receive the maximum amount of oral comments in a convenient way during the timeframe allotted.

The scoping session is scheduled from 5:00 p.m. to 8:00 p.m. CST. You may arrive at any time after 5:00 p.m. There will not be a formal presentation by Commission staff when the session opens. If you wish to speak, the Commission staff will hand out numbers in the order of your arrival. Comments will be taken until 8:00 p.m. However, if no additional numbers have been handed out and all individuals who wish to provide comments have had an opportunity to do so, staff may conclude the session at 7:30 p.m. Please see appendix 1 for additional information on the session format and conduct.¹

¹ The appendices referenced in this notice will not appear in the Federal Register. Copies of the appendices were sent to all those receiving this notice in the mail and are available at www.ferc.gov using the link called “eLibrary.” For instructions on connecting to eLibrary, refer to the last page of this notice. For assistance, contact FERC at FERCOnlineSupport@ferc.gov or call toll free, (886) 208-3676 or TTY (202) 502-8659.

Your scoping comments will be recorded by a court reporter (with FERC staff or representative present) and become part of the public record for this proceeding. Transcripts will be publicly available on FERC's eLibrary system (see the last page of this notice for instructions on using eLibrary). If a significant number of people are interested in providing oral comments in the one-on-one settings, a time limit of 5 minutes may be implemented for each commentor.

It is important to note that the Commission provides equal consideration to all comments received, whether filed in written form or provided orally at a scoping session. Although there will not be a formal presentation, Commission staff will be available throughout the scoping session to answer your questions about the environmental review process. Representatives from Cheniere will also be present to answer project-specific questions.

Additionally, the Commission offers a free service called eSubscription, which makes it easy to stay informed of all issuances and submittals regarding the dockets/projects to which you subscribe. These instant email notifications are the fastest way to receive notification and provide a link to the document files which can reduce the amount of time you spend researching proceedings. Go to https://www.ferc.gov/ferc-online/overview to register for eSubscription.

For public inquiries and assistance with making filings such as interventions, comments, or requests for rehearing, contact the Office of Public Participation at (202)502-6595 or OPP@ferc.gov.

Summary of the Planned Project

Corpus Christi Liquefaction Stage IV, LLC and Corpus Christi Liquefaction, LLC plan to construct and operate an expansion of the existing Corpus Christi Liquefaction Terminal (CCL Terminal) in San Patricio and Nueces Counties, Texas on the La Quinta Ship Channel. The proposed CCL Terminal expansion consists of four new liquefaction trains, two liquefied natural gas (LNG) storage tanks, three ground flares, a third marine berth, and other associated infrastructure (collectively, the “CCL Stage 4 Project”). CCL Stage 4 Project anticipates an additional 390 LNG vessels per year, increasing the approximate number at the CCL Terminal from the currently authorized 480 LNG vessels per year to 870 per year.

Cheniere Corpus Christi Pipeline, L.P. plans to construct and operate a 26-mile-long, 42-inch-diameter interstate natural gas pipeline loop ² (partially collocated with its existing 48-inch-diameter pipeline), as well as additional compression and interconnect facilities, all within San Patricio County, Texas (collectively the “CCPL Expansion Project”). The CCPL Expansion Project would provide feed gas on an integrated basis to the CCL Terminal and include receipt meters to allow it to interconnect with pipelines to be developed by others in the future. The CCPL Expansion Project would increase gas delivery capacity to the CCL Terminal by approximately 3.0 billion standard cubic feet per day.

² A pipeline loop is a segment of pipe constructed parallel to an existing pipeline to increase capacity.

The CCL Stage 4 Project would consist of the following facilities:

• four large-scale liquefaction trains (Trains 4-7);

• four inlet air chilling units;

• two full containment, aboveground 220,000-cubic-meter LNG storage tanks;

• a new marine berth;

• one marine loading jetty;

• seven boil-off-gas compressors (BOG);

• one new main substation;

• one marine totally enclosed ground flare;

• three multi-point ground flares;

• a new 48-inch-diameter, approximately 1-mile-long pipeline from the Stage 4 Custody Meter Station to the CCL Terminal custody meter station where the existing 48-inch diameter pipeline intersects the terminal;

• new flare knockout drums and other new utilities and appurtenant facilities; and

• tie-ins to the existing CCL Terminal, including shared utilities, LNG rundown header, elevated flares, BOG, LNG loading lines, and the project's feed gas header.

The CCPL Expansion Project would consist of the following facilities:

• a new compressor station (Sinton 2 Compressor Station) adjacent to the existing Sinton Compressor Station (previously authorized in Docket No. CP12-508-000) with a proposed 105,000 horsepower;

• a new 42-inch-diameter, approximately 26-mile-long pipeline loop from the Sinton and Sinton 2 Compressor Stations to the Stage 4 Custody Meter Station; and

• interconnect, metering, and flow control infrastructure between the existing and planned facilities.

According to the Applicants, the purpose of the planned projects is to liquefy and export additional LNG volumes from the CCL Terminal to meet increased international demand for natural gas. The general location of the project facilities is shown in appendix 2.

Land Requirements for Construction

Construction of the CCL Stage 4 Project would disturb up to 2,203 acres of land, of which 1,465.2 acres include the existing CCL Stage 4 Terminal and Marine Facilities, and 414.7 acres include land outside the previously approved CCL Terminal site. Following construction, 365.0 acres of land would be added to the current CCL Terminal footprint; the remaining acreage would be restored and reverted to former uses.

Construction of the CCPL Expansion Project would disturb about 581.4 acres of land, which includes 520.5 acres for pipeline construction, 26.7 acres for aboveground facility construction, and 34.2 acres for temporary pipeline contractor yards. Following construction, Cheniere Corpus Christi Pipeline, L.P. would maintain and operate 165.4 acres of pipeline right-of-way and 26.7 acres of aboveground facility. About 95 percent of the planned pipeline route parallels existing pipeline, utility, or road rights-of-way.

In total, construction of the projects would disturb 2,784.4 acres of land and 2,022.3 acres of land would be operated as the CCL Terminal, pipeline right-of-way, and pipeline aboveground facilities.

NEPA Process and the Environmental Document

Any environmental document issued by Commission staff will discuss impacts that could occur as a result of the construction and operation of the planned projects under the relevant general resource areas:

• geology and soils;

• water resources and wetlands;

• vegetation and wildlife;

• threatened and endangered species;

• cultural resources;

• socioeconomics;

• land use;

• air quality and noise; and

• reliability and safety.

Commission staff have already identified several issues that deserve attention based on a preliminary review of the planned facilities and the environmental information provided by the Applicants. This preliminary list of issues may change based on your comments and our analysis:

• visual effects from increased flare activity;

• increased emissions from operation of the CCL Terminal;

• increased ship transit and potential shoreline effects from wake waves; and

• marine berth construction and ship transit effects on marine species.

Commission staff will also evaluate reasonable alternatives to the planned projects or portions of the projects and make recommendations on how to lessen or avoid impacts on the various resource areas. Your comments will help Commission staff identify and focus on the issues that might have an effect on the human environment and potentially eliminate others from further study and discussion in the environmental document.

Although no formal application has been filed, Commission staff have already initiated a NEPA review under the Commission's pre-filing process. The purpose of the pre-filing process is to encourage early involvement of interested stakeholders and to identify and resolve issues before the Commission receives an application. As part of the pre-filing review, Commission staff will contact federal and state agencies to discuss their involvement in the scoping process and the preparation of the environmental document.

If a formal application is filed, Commission staff will then determine whether to prepare an Environmental Assessment (EA) or an Environmental Impact Statement (EIS). The EA or the EIS will present Commission staff's independent analysis of the environmental issues. If Commission staff prepares an EA, a Notice of Schedule for the Preparation of an Environmental Assessment will be issued. The EA may be issued for an allotted public comment period. The Commission would consider timely comments on the EA before making its determination on the proposed project. If Commission staff prepares an EIS, a Notice of Intent to Prepare an EIS/Notice of Schedule will be issued once an application is filed, which will open an additional public comment period. Staff will then prepare a draft EIS that will be issued for public comment. Commission staff will consider all timely comments received during the comment period on the draft EIS, and revise the document, as necessary, before issuing a final EIS. Any EA or draft and final EIS will be available in electronic format in the public record through eLibrary ³ and the Commission's natural gas environmental documents web page (https://www.ferc.gov/industries-data/natural-gas/environment/environmental-documents). If eSubscribed, you will receive instant email notification when the environmental document is issued.

³ For instructions on connecting to eLibrary, refer to the last page of this notice.

With this notice, the Commission is asking agencies with jurisdiction by law and/or special expertise with respect to the environmental issues related to these projects to formally cooperate in the preparation of the environmental document.⁴ Agencies that would like to request cooperating agency status should follow the instructions for filing comments provided under the Public Participation section of this notice. Currently, the U.S. Army Corps of Engineers has expressed its intention to participate as a cooperating agency in the preparation of the environmental document to satisfy its NEPA responsibilities related to these projects.

⁴ Cooperating agency responsibilities are addressed in Section 107(a)(3) of NEPA (42 U.S. Code § 4336(a)(3)).

Consultation Under Section 106 of the National Historic Preservation Act

In accordance with the Advisory Council on Historic Preservation's implementing regulations for section 106 of the National Historic Preservation Act, the Commission is using this notice to initiate consultation with the applicable State Historic Preservation Office(s), and to solicit their views and those of other government agencies, interested Indian tribes, and the public on the project's potential effects on historic properties.⁵ The environmental document for these projects will document our findings on the impacts on historic properties and summarize the status of consultations under section 106.

⁵ The Advisory Council on Historic Preservation regulations are at Title 36, Code of Federal Regulations, Part 800. Those regulations define historic properties as any prehistoric or historic district, site, building, structure, or object included in or eligible for inclusion in the National Register of Historic Places.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the projects and includes a mailing address with their comments. Commission staff will update the environmental mailing list as the analysis proceeds to ensure that Commission notices related to this environmental review are sent to all individuals, organizations, and government entities interested in and/or potentially affected by the planned projects.

If you need to make changes to your name/address, or if you would like to remove your name from the mailing list, please complete one of the following steps:

(1) Send an email to GasProjectAddressChange@ferc.gov stating your request. You must include the docket number (PF25-10-000) in your request. If you are requesting a change to your address, please be sure to include your name and the correct address. If you are requesting to delete your address from the mailing list, please include your name and address as it appeared on this notice. This email address is unable to accept comments.

OR

(2) Return the attached “Mailing List Update Form” (appendix 3).

Becoming an Intervenor

Once the Applicants file its application with the Commission, you may want to become an “intervenor” which is an official party to the Commission's proceeding. Only intervenors have the right to seek rehearing of the Commission's decision and be heard by the courts if they choose to appeal the Commission's final ruling. An intervenor formally participates in the proceeding by filing a request to intervene pursuant to Rule 214 of the Commission's Rules of Practice and Procedures (18 CFR 385.214). Motions to intervene are more fully described at https://www.ferc.gov/how-intervene. Please note that the Commission will not accept requests for intervenor status at this time. You must wait until the Commission receives a formal application for the projects, after which the Commission will issue a public notice that establishes an intervention deadline.

Additional Information

Additional information about these projects are available on the FERC website (www.ferc.gov) using the eLibrary link. Click on the eLibrary link, click on “General Search” and enter the docket number in the “Docket Number” field. Be sure you have selected an appropriate date range. For assistance, please contact FERC Online Support at FercOnlineSupport@ferc.gov or toll free at (866) 208-3676, or for TTY, contact (202) 502-8659. The eLibrary link also provides access to the texts of all formal documents issued by the Commission, such as orders, notices, and rulemakings.

Public sessions or site visits will be posted on the Commission's calendar located at https://www.ferc.gov/news-events/events along with other related information.

Authority: 18 CFR 2.1.

Dated: November 24, 2025
Debbie-Anne A. Reese,
Secretary.

[FR Doc. 2025-21489 Filed 11-26-25; 8:45 am]

BILLING CODE 6717-01-P